SMALL BUSINESS ADMINISTRATION

Region VI—Houston District Advisory Council Meeting; Public Meeting

The U.S. Small Business Administration, Region VI, Houston District Advisory Council, located in the geographical area of Houston, Texas will hold a public meeting at 9 a.m. on Wednesday, May 28, 2003. The meeting will be held in the Conference Room at the Small Business Administration, 87011 S. Gessner, Suite 1200, Houston, Texas 77074. The meeting will be conducted to discuss such matters that may be presented by members of the District Advisory Council, staff of the U.S. Small Business Administration, and others attending. Anyone wishing to make an oral or written presentation to the Board must contact Mr. Milton Wilson in writing by letter or fax no later than May 19, 2003, in order to be put on the agenda. Mr. Milton Wilson, District Director, U.S. Small Business Administration, 87011 S. Gessner, Suite 1200 Houston, TX 77074, (713) 773-6500 ph. or (713) 773-6550 fax.

Candace H. Stoltz,
Director, Advisory Councils.

[FR Doc. 03-11598 Filed 5-8-03; 8:45 am]

BILLING CODE 8025-01-P